DEPARTMENT OF DEFENSE

Office of the Secretary of Defense

Renewal of Department of Defense Federal Advisory Committees

AGENCY: DoD.

ACTION: Renewal of Federal Advisory Committee.

SUMMARY: Under the provisions of the Federal Advisory Committee Act of 1972, (5 U.S.C. Appendix, as amended), the Sunshine in the Government Act of 1976 (5 U.S.C. 552b, as amended), and 41 CFR 102-3.65, the Department of Defense gives notice that it is renewing the charter for the Chief of Naval Operations Executive Panel (hereafter referred to as the Panel).

The Panel is a discretionary federal advisory committee established by the Secretary of Defense to provide the Department of Defense independent advice and recommendations on a broad array of issues relating to (1) the role of the naval power in the international strategic environment, including issues of technology, manpower, strategy and policy; (2) current and projected Navy policies and procedures to enhance the Navy's effectiveness and efficiency in execution of national and defense policy; and (3) alternative policies and postures for fulfilling the Navy's mission in the face of evolving political, economic, technological, and military circumstances.

The Panel shall be composed of not more than 40 members, who are eminent authorities in the fields of science, engineering, business and political-military. Panel members appointed by the Secretary of Defense, who are not federal officers or employees, shall serve as Special Government Employees under the authority of 5 U.S.C. 3109. Panel members shall be appointed on an annual basis by the Secretary of Defense and, with the exception of travel and per diem for official travel, they shall serve without compensation. The Chief of Naval Operations shall select the Panel's Chairperson from the total Panel membership.

The Panel shall be authorized to establish subcommittees, as necessary and consistent with its mission, and these subcommittees or working groups shall operate under the provisions of the Federal Advisory Committee Act of 1972, the Sunshine in the Government Act of 1976, and other appropriate federal regulations.

Such subcommittees or workgroups shall not work independently of the chartered Panel, and shall report all their recommendations and advice to the Panel for full deliberation and discussion. Subcommittees or workgroups have no authority to make decisions on behalf of the chartered Panel nor can they report directly to the Department of Defense or any federal officers or employees who are not Panel members.

SUPPLEMENTARY INFORMATION: The Panel shall meet at the call of the Panel's Designated Federal Officer, in consultation with the Chief of Naval Operations and the Panel's Chairperson. The Designated Federal Officer, pursuant to DoD policy, shall be a full-time or permanent part-time DoD employee, and shall be appointed in accordance with established DoD policies and procedures. The Designated Federal Officer or duly appointed Alternate Designated Federal Officer shall attend all committee meetings and subcommittee meetings.

Pursuant to 41 CFR 102-3.105(j) and 102-3.140, the public or interested organizations may submit written statements to the Chief of Naval Operations Executive Panel membership about the Panel's mission and functions. Written statements may be submitted at any time or in response to the stated agenda of planned meeting of the Chief of Naval Operations Executive Panel.

All written statements shall be submitted to the Designated Federal Officer for the Chief of Naval Operations Executive Panel, and this individual will ensure that the written statements are provided to the membership for their consideration. Contact information for the Chief of Naval Operations Executive Panel Designated Federal Officer can be obtained from the GSA's FACA Database— https://www.fido.gov/facadatabase/public.asp.

The Designated Federal Officer, pursuant to 41 CFR 102-3.150, will announce planned meetings of the Chief of Naval Operations Executive Panel. The Designated Federal Officer, at that time, may provide additional guidance on the submission of written statements that are in response to the stated agenda for the planned meeting in question.

FOR FURTHER INFORMATION CONTACT: Jim Freeman, Deputy Committee Management Officer for the Department of Defense, 703-601-2554, extension 128.

Dated: February 19, 2008.
L.M. Bynum,
Alternate OSD Federal Register Liaison Officer, Department of Defense.

[FR Doc. E8-3483 Filed 2-25-08; 8:45 am]

BILLING CODE 5001-06-P